DEPARTMENT OF VETERANS AFFAIRS

[OMB Control No. 2900-0262]

Agency Information Collection Activities Under OMB Review

AGENCY: Veterans Benefits Administration, Department of Veterans Affairs.

ACTION: Notice.

SUMMARY: In compliance with the Paperwork Reduction Act (PRA) of 1995 (44 U.S.C. 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before April 18, 2003.

FOR FURTHER INFORMATION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0262.”

Send comments and recommendations concerning any aspect of the information collection to VA's OMB Desk Officer, OMB Human Resources and Housing Branch, New Executive Office Building, Room 10235, Washington, DC 20503 (202) 395-7316. Please refer to “OMB Control No. 2900-0262” in any correspondence.

SUPPLEMENTARY INFORMATION:

Title: Designation of Certifying Official(s), VA Form 22-8794.

OMB Control Number: 2900-0262.

Type of Review: Extension of a currently approved collection.

Abstract: VA Form 22-8794 is used to provide notification to VA of the designated person(s) who may certify reports of the enrollment and pursuit or training on behalf of an educational institution or job training establishment. The information is used to ensure that educational benefits are not made improperly based on a report from someone other than a designated certifying official.

An agency may not conduct or sponsor, and a person is not required to respond to a collection of information unless it displays a currently valid OMB control number. The Federal Register notice with a 60-day comment period soliciting comments on this collection of information was published on December 20, 2002, at page 78042-78043.

Affected Public: State, local or Tribal government, business or other for-profit, and not for-profit institutions.

Estimated Annual Burden: 333 hours.

Estimated Average Burden Per Respondent: 10 minutes.

Frequency of Response: On occasion.

Estimated Number of Respondents: 2,000.

Dated: February 26, 2003.
By direction of the Secretary.
Martin L. Hill,
Acting Director, Records Management Service.

[FR Doc. 03-6616 Filed 3-18-03; 8:45 am]

BILLING CODE 8320-01-P